DEPARTMENT OF THE INTERIOR

National Park Service

[NPS-WASO-NAGPRA-19365;PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian tribes or Native Hawaiian organizations, and has determined that there is no cultural affiliation between the human remains and any present-day Indian tribes or Native Hawaiian organizations. Representatives of any Indian tribe or Native Hawaiian organization not identified in this notice that wish to request transfer of control of these human remains and associated funerary objects should submit a written request to the University of Michigan. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Michigan at the address in this notice by November 16, 2015.

ADDRESSES: Dr. Ben Secunda, NAGPRA Project Manager, University of Michigan Office of Research, 4080 Fleming Building, 503 S. Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from sites in Genesee and Tuscola Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the University of Michigan Museum of Anthropological Archaeology (UMMAA) professional staff, in consultation with representatives of the Bay Mills Indian Community, Michigan; Chippewa Cree Indians of the Rocky Boy's Reservation, Montana; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Pokagon Band of Potawatomi Indians, Michigan and Indiana; Saginaw Chippewa Indian Tribe of Michigan; Sault Ste. Marie Tribe of Chippewa Indians, Michigan; and the Wyandotte Nation, Oklahoma.

Additional requests for consultation were sent to the Bad River Band of the Lake Superior Tribe of Chippewa Indians of the Bad River Reservation, Wisconsin; Bois Forte Band (Nett Lake) of the Minnesota Chippewa Tribe, Minnesota; Citizen Potawatomi Nation, Oklahoma; Fond du Lac Band of the Minnesota Chippewa Tribe, Minnesota; Forest County Potawatomi Community, Wisconsin; Grand Portage Band of the Minnesota Chippewa Tribe, Minnesota; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Ottawa Tribe of Oklahoma; Prairie Band Potawatomi Nation, Kansas (previously listed as the Prairie Band of Potawatomi Nation, Kansas); Quechan Tribe of the Fort Yuma Indian Reservation, California and Arizona; Red Cliff Band of Lake Superior Chippewa Indians of Wisconsin; Red Lake Band of Chippewa Indians, Minnesota; Sokaogon Chippewa Community, Wisconsin; St. Croix Chippewa Indians of Wisconsin; Turtle Mountain Band of Chippewa Indians of North Dakota; and the White Earth Band of the Minnesota Chippewa Tribe, Minnesota.

Hereafter, all tribes listed in this section are referred to as “The Consulted and Invited Tribes.”

History and Description of the Remains

On June 25, 1972, human remains representing, at minimum, seven individuals were removed from the Budd site (20GS26) in Genesee County, MI. Individuals walking along the Flint River noticed human remains eroding out of the riverbank. They collected the human remains, along with objects, which the landowner later donated to the UMMAA, on June 29, 1979. The human remains are from one child, one adult male, two adult females, and three adults of indeterminate sex. At least three of the individuals were noted as having been interred in a flexed position. The human remains are dated to the Middle Late Woodland Period (A.D. 900-1200), based on diagnostic artifacts collected from the site. No known individuals were identified. The 2 associated funerary objects present are 1 ceramic elbow pipe with a collared rim and 1 awl made from a turkey bone.

In June 1959, human remains representing, at minimum, two individuals were removed from the Ray Bradshaw Farm site (20TU1) in Tuscola County, MI. Workers excavating gravel inadvertently dug into a burial mound and unearthed commingled human remains and objects. The landowner collected the human remains and objects, and donated them to the UMMAA in July 1959. The human remains are from two adults. The human remains are dated to the Pre-Contact Period, based on diagnostic artifacts collected from the site. No known individuals were identified. The 10 associated funerary objects present are 6 antler tines and 4 pieces of chipped stone.

In 1988, human remains representing, at minimum, six individuals were removed from the Hancock I site (20TU147) in Tuscola County, MI. The landowners were excavating sediment from what they thought was a natural knoll on their property. While depositing the sediment elsewhere on their property, the landowners noticed human remains and red ochre mixed in with the soil. They contacted archeologists at Saginaw Valley State University and Alma College for assistance. Although the human remains had been relocated away from the knoll where they were buried, the archeologists, their students, and members of the Michigan Archaeological Society carried out a survey and salvage excavation effort.

The collections were donated to the UMMAA in 1990. The human remains are from one juvenile, one adolescent, three adults of indeterminate sex, and one cremated adult of indeterminate sex. The cremated human remains were found commingled with the non-cremated remains of an adult. Although the human remains were highly fragmentary, one individual was noted as possibly cremated in a flexed position. The human remains are dated to the Late Archaic to Early Woodland Periods (3500-500 B.C.), based on mortuary treatment. No known individuals were identified. No associated funerary objects are present.

Determinations Made by the University of Michigan

Officials of the University of Michigan have determined that:

• Pursuant to 25 U.S.C. 3001(9), the human remains described in this notice are Native American based on cranial morphology, dental traits, mortuary treatment, archeological context, and accession documentation.

• Pursuant to 25 U.S.C. 3001(9), the human remains described in this notice represent the physical remains of 15 individuals of Native American ancestry.

• Pursuant to 25 U.S.C. 3001(3)(A), there are 12 objects described in this notice reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Saginaw Chippewa Indian Tribe of Michigan.

• Treaties, Acts of Congress, or Executive Orders indicate that the land from which the Native American human remains and associated funerary objects were removed is the aboriginal land of The Invited and Consulted Tribes.

• Pursuant to 43 CFR 10.11(c)(1), the disposition of the human remains and associated funerary objects may be to The Invited and Consulted Tribes.

Additional Requestors and Disposition

Representatives of any Indian tribe or Native Hawaiian organization not identified in this notice that wish to request transfer of control of these human remains and associated funerary objects should submit a written request with information in support of the request to Dr. Ben Secunda, NAGPRA Project Manager, University of Michigan Office of Research, 4080 Fleming Building, 503 S. Thompson Street, Ann Arbor, MI 48109-1340, telephone (734) 647-9085, email bsecunda@umich.edu, by November 16, 2015. After that date, if no additional requestors have come forward, transfer of control of the human remains and associated funerary objects to The Invited and Consulted Tribes may proceed.

The University of Michigan is responsible for notifying The Invited and Consulted Tribes that this notice has been published.

Dated: September 22, 2015.
Melanie O'Brien,
Manager, National NAGPRA Program.

[FR Doc. 2015-26284 Filed 10-14-15; 8:45 am]

BILLING CODE 4312-50-P